FEDERAL COMMUNICATIONS COMMISSION

Public Information Collections Approved by Office of Management and Budget

April 1, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Jackson, Federal Communications Commission, 445 12th Street, SW., Washington DC, 20554, (202) 418-2247 or via the Internet at Dana.Jackson@fcc.gov.

SUPPLEMENTARY INFORMATION: OMB Control No.: 3060-0833.

OMB Approval date: 3/25/2005.

Expiration Date: 3/31/2008.

Title: Implementation of Section 255 of the Telecommunications Act of 1996; Complaint Filings/Designation of Agents.

Form No.: N/A.

Estimated Annual Burden: 11,827 responses; 0.5-5 hours average per response.

Needs and Uses: This information collection includes rules governing the filing of complaints as part of the implementation of section 255 of the Telecommunications Act of 1996, which seeks to ensure that telecommunications equipment and services are available to all Americans, including those individuals with disabilities. In particular, telecommunications service providers and equipment manufacturers are asked for a one-time designation of an agent who will receive and promptly handle voluntary consumer complaints of accessibility concerns. As with any complaint procedure, a certain number of regulatory and information burdens are necessary to ensure compliance with FCC rules.

OMB Control No.: 3060-1043.

OMB Approval date: 3/11/2005.

Expiration Date: 3/31/2008.

Title: Telecommunication Relay Services and Speech-to-Speech Services for Individual with Hearing and Speech Disabilities, (Report and Order, Order on Reconsideration), FCC 04-137.

Form No.: N/A.

Estimated Annual Burden: 7 responses; 70 total annual burden hours; 10 hours average per response.

Needs and Uses: On June 30, 2004, the Commission released the Report and Order, Order on Reconsideration, (Report and Order) In the Matter of Telecommunication Relay Services and Speech-to-Speech Services for Individuals with Hearing and Speech Disabilities, CC Docket No. 98-67 and CC Docket No. 90-571, FCC 04-137. In the Report and Order, the Commission grants Video Relay Service (VRS) waiver requests of the following Telecommunications Relay Services (TRS) mandatory minimum requirements: (1) 47 CFR 64.604(a)(3) types of calls that must be handled; (2) 47 CFR 64.604(a)(3)(iv) pay-per-call services; (3) 47 CFR 64.604(a)(4) emergency call handling; (4) 47 CFR 64.604(b)(2) speed of answer; and (5) 47 CFR 64.604(b)(3) equal access to interexchange carriers. These waivers are granted provided that VRS providers submit an annual report to the Commission, in a narrative form, detailing: (1) The provider's plan or general approach to meet the waived standards; (2) any additional costs that would be required to meet the standards; (3) the development of any new technology that may affect the particular waivers; (4) the progress made by the provider to meet the standards; (5) the specific steps taken to resolve any technical problems that prohibit the provider from meeting the standards; and (6) any other factors relevant to whether the waivers should continue in effect. Further, as requested by the parties and for administrative convenience, VRS providers may combine the reporting requirement established in the Report and Order with existing VRS/IP Relay reporting requirements, which are scheduled to be submitted annually on April 16th of each year pursuant to the IP Relay Order on Reconsideration and Second Improved TRS Order & NPRM. In the Order on Reconsideration, the Commission affirms, except as otherwise specifically provided therein, the cost recovery methodology for VRS established in the June 30, 2003, Bureau TRS Order. The Commission adjusts the VRS compensation rate to a per-minute compensation rate of $8.854.

On June 30, 2004, the Commission also released a Further Notice of Proposed Rulemaking, In the Matter of Telecommunication Relay Services and Speech-to-Speech Services for Individuals with Hearing and Speech Disabilities, CG Docket No. 03-123, FCC 04-137, that addressed a number of outstanding issues with respect to VRS and IP Relay, none of which have any implications under the Paperwork Reduction Act.

Federal Communications Commission.
William F. Caton,
Deputy Secretary.

[FR Doc. 05-6812 Filed 4-5-05; 8:45 am]

BILLING CODE 6712-01-P